DEPARTMENT OF TRANSPORTATION

National Highway Traffic Safety Administration

[Docket No. NHTSA-2016-0051]

Request for Comments on a New Information Collection

AGENCY: National Highway Traffic Safety Administration (NHTSA)

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on April 29, 2016 (Volume 81, Number 83, pages 25759-25760).

DATES: Comments must be submitted on or before January 6, 2017.

FOR FURTHER INFORMATION CONTACT: Margaret Petrella, Volpe National Transportation Systems Center, U.S. Department of Transportation, 55 Broadway, Cambridge, MA 02142, 617-494-3582. Her email address is margaret.petrella@dot.gov.

SUPPLEMENTARY INFORMATION:

OMB Control Number:

Title: Using Automated License Plate Readers for Traffic Safety Purposes.

Type of Request: Regular—New Information Collection.

Respondents: The information collection will interview law enforcement agency personnel from 12 agencies in the United States that use automated license plate readers for traffic safety purposes.

Estimated Number of Respondents: The estimated number of respondents for this information collection is 24 personnel. While there will be interview requests of approximately 48 personnel (4 personnel from each of 12 law enforcement agencies), the expected participation rate is 50%.

Annual Time per Response: We estimate that it will take 40 minutes per respondent to complete each interview. This includes any time required to retrieve information.

Total Estimated Annual Burden Hours: 32 hours.

Frequency of Collection: One time only.

Abstract: NHTSA's interest in the state and practice of using ALPR for traffic safety purposes is in support of its mission, which is to save lives, prevent injuries, and reduce economic costs due to road traffic crashes, through education, research, safety standards, and enforcement activity. NHTSA has statutory authority (see 23 U.S.C. 403; 49 CFR 1.50; 49 CFR part 501) to accomplish this mission. Under the Highway Safety Act of 1966, Section 403, the Secretary of Transportation is required to carry out research and demonstration programs. In addition, MAP-21, Subsection 402(c), states that the Secretary, acting through the NHTSA Administrator, shall establish a cooperative program to research and evaluate State highway safety countermeasures, such as use of ALPR. MAP-21 provides that this new cooperative research and evaluation program, the National Cooperative Research and Evaluation Program (NCREP), is to be administered by NHTSA and jointly managed by NHTSA and the Governors Highway Safety Association (GHSA). The U.S DOT Volpe National Transportation Systems Center is providing support to NHTSA in establishing and managing this new cooperative Program.

The information collection activity will be in 12 law enforcement agency (LEA) sites. Site selection will cover the diversity of LEAs that are deploying ALPR for traffic safety purposes, as determined through a thorough review of the literature. Case studies will involve interviews with a variety of personnel in each selected LEA. This approach will provide a knowledge base about this particular use of ALPR systems by providing rich, contextual information from those most knowledgeable about the weaknesses and strengths or incentives and barriers to this technology's effective implementation and use for traffic safety purposes.

ADDRESSES: Send comments regarding the burden estimate, including suggestions for reducing the burden, to the Office of Management and Budget, Attention: Desk Officer for the Office of the Secretary of Transportation, 725 17th Street NW., Washington, DC 20503.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: 44 U.S.C. Section 3506(c)(2)(A).

Dated: December 2, 2016.
Jeff Michael,
Associate Administrator, Research and Program Development.

[FR Doc. 2016-29325 Filed 12-6-16; 8:45 am]

BILLING CODE 4910-59-P